DEPARTMENT OF TRANSPORTATION

Office of the Secretary

[OST Docket No. 2005-22114]

RIN 2105-AD53

Standard Time Zone Boundary in the State of Indiana

AGENCY: Office of the Secretary (OST), the Department of Transportation (DOT).

ACTION: Notice of public hearings.

SUMMARY: To gather information concerning the effects of changing time zone boundaries in Indiana, DOT is holding four public hearings. This notice provides the dates, times, locations, and agenda for these public hearings. The objective of the hearings is to provide State and local government representatives and the public an opportunity to comment on DOT's proposal concerning the time zone boundary in 18 Indiana counties. To aid us in our consideration of whether a time zone change would be “for the convenience of commerce,” which is the standard Congress established for these matters, DOT seeks comments on how the time zone change impacts on such things as economic, cultural, social, and civic activities and how time zone changes affect businesses, communication, transportation, and education.

DATES: The hearing in Logansport will be held on November 13 from 2:30 pm to 6:30 pm; in Terre Haute on November 14 from 5 p.m. to 10 p.m.; in Jasper on November 16 from 6 p.m. to 10 p.m., and in South Bend on November 21, 2005 from 5 p.m. to 10 p.m. To help us prepare for the meeting, all State and local government representatives must register in order to ensure an opportunity to speak at the hearings by November 10, 2005. If anyone needs a sign language interpreter, please let us know as soon as possible. To register or to request an interpreter for the hearings, please send an e-mail message to indianatime@dot.gov or call (202) 366-9283 and identify the hearing location at which you wish to speak. As announced previously, all written comments should be received by November 30, 2005, to be assured of consideration. Comments received after that date will be considered to the extent practicable.

ADDRESSES: The public hearings will be held at the following locations:

• McHale Performing Arts Center, Logansport Community High School, 1 Berry Lane, Logansport, IN 46947. Phone: 574-753-4116 (http://mchalepac.lcsc.k12.in.us)

• Hulman Center Meeting Room Complex, Indiana State University, 200 North Eighth Street, (corner of 9th and Cherry Street) Terre Haute, IN 47809. Phone: 812-237-3770 (http://indstate.edu)

• Jasper Arts Center, 951 College Avenue, Jasper, IN 47546 (adjacent to Vincennes University, Jasper Campus) Phone: 812-482-3070 (http://www.jasperindiana.gov)

• Student Activity Center, Indiana University, South Bend Campus, 1700 Mishawaka Avenue, South Bend, IN 46634 Phone: 574-520-4872 (http://www.iusb.edu/maps)

FOR FURTHER INFORMATION CONTACT: Joanne Petrie, Office of the Assistant General Counsel for Regulation and Enforcement, U.S. Department of Transportation, Room 10424, 400 Seventh Street, Washington, DC 20590, indianatime@dot.gov; (202) 366-9306.

SUPPLEMENTARY INFORMATION: In a notice published in the Federal Register on October 31, 2005, (70 FR 62288), DOT tentatively proposed to move St. Joseph, Starke, Knox, Pike, and Perry Counties from the eastern time zone to the central time zone. DOT also tentatively proposed not to change the time zone boundary for Marshall, Pulaski, Fulton, Benton, White, Carroll, Cass, Vermillion, Sullivan, Daviess, Dubois, Martin, and Lawrence Counties, leaving them in the eastern time zone. The notice also announced that DOT intended to hold public hearings on its proposal.

Public Hearing

In addition to the opportunity to provide written comments, DOT is providing an opportunity for State and local government representatives and the public to comment on our proposal concerning Indiana time zone boundary changes at four public hearings in Jasper, Logansport, South Bend, and Terre Haute. These hearings will be chaired by a representative of DOT.

The DOT representative will describe the process that DOT uses to set time zone boundaries. There will be an opportunity for clarifying questions on her remarks. This will be followed by presentations by county government representatives who have requested an opportunity to speak. If the government representative is speaking on behalf of a county that petitioned for a change to the county time zone boundary, he or she has been asked to explain how the change would be for the convenience of commerce. After these presentations, other State and local government representatives will have an opportunity to comment, followed by the public. The DOT representative will attempt to provide an opportunity to speak for all those wishing to do so. To accommodate all interested speakers, the DOT representative may have to establish some time limits or other approaches for comment. For example, the DOT representative may provide an opportunity for citizens with like views to meet and collaborate on providing a joint statement.

The hearings will be informal and will be tape-recorded for inclusion in the docket.

“For the Convenience of Commerce”

The principal standard for deciding whether to change a time zone is “for the convenience of commerce.” This term is defined very broadly to include consideration of all the impacts upon a community of a change in its time zone. We have requested that counties seeking a change address, at a minimum, each of the following questions in as much detail as possible.

1. From where do businesses in the community get their supplies, and to where do they ship their goods or products?

2. From where does the community receive television and radio broadcasts?

3. Where are the newspapers published that serve the community?

4. From where does the community get its bus and passenger rail services; if there is no scheduled bus or passenger rail service in the community to where must residents go to obtain these services?

5. Where is the nearest airport; if it is a local service airport, to what major airport does it carry passengers?

6. What percentage of residents of the community work outside the community; where do these residents work?

7. What are the major elements of the community's economy; is the community's economy improving or declining; what Federal, State, or local plans, if any, are there for economic development in the community?

8. If residents leave the community for schooling, recreation, health care, or religious worship, what standard of time is observed in the places where they go for these purposes?

To aid us in our consideration of whether a time zone change would be “for the convenience of commerce,” we ask that all those who speak at the public hearing comment on the impact on commerce of a change in the time zone and whether and how a new time zone would improve the convenience of commerce. The comments should address the impact on such things as economic, cultural, social, and civic activities and how a time zone change would affect businesses, communication, transportation, and education. The comments should be as detailed as possible, providing the basis of the information including factual data or surveys.

We will consider any other information that the county or local officials or the public believe to be relevant to the proceeding.

Jeffrey A. Rosen,
General Counsel.

[FR Doc. 05-22518 Filed 11-8-05; 11:45am]

BILLING CODE 4910-62-P